DEPARTMENT OF HEALTH AND HUMAN SERVICES

Food and Drug Administration

21 CFR Part 173

[Docket No. 00F-0786]

Secondary Direct Food Additives Permitted in Food for Human Consumption; Correction

AGENCY: Food and Drug Administration, HHS.

ACTION: Final rule; correction.

SUMMARY: The Food and Drug Administration (FDA) is correcting a final rule that appeared in the Federal Register of May 31, 2000 (65 FR 34587). The document amended the food additive regulations to provide for the safe use of chlorine dioxide produced by treating an aqueous solution of sodium chlorate with hydrogen peroxide in the presence of sulfuric acid. The document was published with an error. This document corrects that error.

DATES: This rule is effective May 31, 2000.

FOR FURTHER INFORMATION CONTACT: Robert L. Martin, Center for Food Safety and Applied Nutrition (HFS-215), Food and Drug Administration, 200 C St. SW., Washington, DC 20204-0001, 202-418-3074.

SUPPLEMENTARY INFORMATION: In FR Doc. 00-13477, appearing on page 34587 in the Federal Register of Wednesday, May 31, 2000, the following corrections are made:

1. On page 34587, in the first column, under the SUMMARY section, in the sixth line, the word “chlorite” is corrected to read “chlorate”.

2. On page 34587, in the first column, under the SUPPLEMENTARY INFORMATION section, in the 14th line, “chlorite” is corrected to read “chlorate”.

Dated: July 13, 2000.
L. Robert Lake,
Director of Regulations and Policy, Center for Food Safety and Applied Nutrition.

[FR Doc. 00-18582 Filed 7-21-00; 8:45 am]

BILLING CODE 4160-01-F